DEPARTMENT OF LABOR

Employment and Training Administration

[TA-W-55,110]

Model Die Casting Inc., Carson City, NV; Notice of Termination of Investigation

Pursuant to section 221 of the Trade Act of 1974, as amended, an investigation was initiated on June 18, 2004, in response to a worker petition filed by a company official on behalf of workers at Model Die Casting Inc., Carson City, Nevada.

The petitioner has requested that the petition be withdrawn. Consequently, the investigation has been terminated.

Signed at Washington, DC, this 2nd day of July, 2004.
Richard Church,
Certifying Officer, Division of Trade Adjustment Assistance.

[FR Doc. 04-16424 Filed 7-19-04; 8:45 am]

BILLING CODE 4510-30-P